DEPARTMENT OF TRANSPORTATION

Pipeline and Hazardous Materials Safety Administration

[Docket No. PHMSA-2016-0040; Notice No. 2016-04]

Hazardous Materials: Termination of Competent Authority Manufacturing Approvals

AGENCY: Pipeline and Hazardous Materials Safety Administration (PHMSA), DOT.

ACTION: Notice.

SUMMARY: This notice is to advise interested persons that PHMSA has terminated the manufacturing approvals listed herein. In November 2014, PHMSA attempted to contact all of the below listed manufacturing approval holders via written correspondence. In July 2015, PHMSA issued a Show Cause letter via certified mail requesting a response within 30 days with their intent with respect to the approval. None of the companies complied with the requirements of the letter. Thus, PHMSA issued a Termination letter via certified mail in January 2016. To date, PHMSA has not received any correspondence concerning the below listed approval numbers.

FOR FURTHER INFORMATION CONTACT: Mr. Ryan Paquet, Director, Approvals and Permits Division, Office of Hazardous Materials Safety, (202) 366-4512, PHMSA, 1200 New Jersey Avenue SE., Washington, DC 20590 or at approvals@dot.gov.

Correspondence with respect to the below listed approval numbers should be sent to approvals@dot.gov with a subject line “Termination Letter” and should be in writing; state in detail any alleged errors of fact and law; enclose any additional information needed to support the request; and state in detail the modification of the final decision sought.

SUPPLEMENTARY INFORMATION:

I. Introduction

In this notice, PHMSA's Approvals and Permits Division is terminating the approvals listed below based on a change in circumstances rendering the approval no longer necessary (49 CFR 107.713(b)(1)); and/or violations of your approval and the HMR that demonstrate a lack of fitness (49 CFR 107.713(b)(4)).

II. Background

In November 2014, the Office of Hazardous Materials Safety Field Operations (OHMSFO) mailed a letter requesting approval status of the companies listed below. The companies listed below did not respond to the November 2014 request for information. In July 2015, PHMSA mailed a Show Cause letter to each of the companies listed below, requesting current approval status. The companies below did not respond to the Show Cause letter. In January 2016, PHMSA issued a Termination letter to each company listed below. To date, PHMSA has not received any correspondence from these companies. This Federal Register notice serves as an official announcement of termination of those approvals.

III. Action

PHMSA has terminated the below listed approvals, and this Federal Register notice serves as an official announcement to the public.

IV. Approvals Terminated

ID No. | Approval holder/company
300b-87-03 | Industrias Vengas, S. A.
300b-96-02 | Tanques Para Gas, S.A.
300b-87-01 | Kanto Koatsu Yoki Mfg. Co.
807-06-01 | Hulett Cylinders
807-04-06 | Finetec Corporation
807-04-04 | Changzhou Aircraft Manufacture Co. Ltd.
300b-96-03 | Tanques Industriales Lajat, SA DE CV.
300b-92-02 | Chengdu High Pressure Vessel Factory.
807-07-01 | DACC Co., Ltd.
807-08-04 | Guangming Overseas Chinese Farms.
300b-84-03 | Primus Sievert AB.
300b-78-03 | MCS Cylinder Systems GmbH.
807-08-01 | Yongkang Yingpeng Chemical Machinery Co., Ltd.
300b-88-01 | Implementos Agricolas LA, S.A.
300b-98-03 | ROTH S.A.
300b-94-05 | ISI GmbH.
300b-83-02 | Cilbras.
300b-89-03 | Wolfedale Engineering Limited.
300b-93-02 | DDI Seamless Cylinder International Inc.
300b-88-02 | Bruin Engineered Parts, Inc.
807-04-01 | Yuxin Machinery Co., Ltd.

Issued in Washington, DC, on August 10, 2016, under authority delegated in 49 CFR part 107.
William S. Schoonover,
Deputy Associate Administrator, Pipeline and Hazardous Materials Safety Administration.

[FR Doc. 2016-19414 Filed 8-15-16; 8:45 am]

BILLING CODE 4910-60-P